ENVIRONMENTAL PROTECTION AGENCY

[FRL-9123-8]

Proposed CERCLA Administrative Cost Recovery Settlement: Sherwood Motors, Inc.; West Site/Hows Corner Superfund Site, Plymouth, ME

AGENCY: U.S. Environmental Protection Agency.

ACTION: Notice; request for public comment.

SUMMARY: In accordance with Section 122(i) of the Comprehensive Environmental Response, Compensation and Liability Act (“CERCLA”), 42 U.S.C. 9622(i), notice is hereby given of a proposed administrative settlement of past response costs concerning the West Site/Hows Corner Superfund Site in Plymouth, Maine with the following settling party: Sherwood Motors, Inc. The settling party agrees to reimburse the Agency $5,000 in past costs. This settlement amount is based on the ability to pay of the settling party. This settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at U.S. Environmental Protection Agency, Region I, 5 Post Office Square, Suite 100, Boston, MA 02109-3912.

DATES: Comments must be submitted by April 7, 2010.

ADDRESSES: Comments should be addressed to the Regional Hearing Clerk, U.S. Environmental Protection Agency, Region I, 5 Post Office Square, Suite 100 (Mailcode: ORA18-1), Boston, Massachusetts 02109-3912 and should refer to: The West Site/Hows Corner Superfund Site, U.S. EPA Docket Number 01-2009-0092.

FOR FURTHER INFORMATION CONTACT: A copy of the proposed settlement may be obtained from Sarah Meeks, Enforcement Counsel, U.S. Environmental Protection Agency, Region I, Office of Environmental Stewardship, 5 Post Office Square, Suite 100 (OES04-3), Boston, MA 02109-2023, (617) 918-1438.

Dated: January 6, 2010.
James T. Owens, III,
Director, Office of Site Remediation and Restoration.

[FR Doc. 2010-4826 Filed 3-5-10; 8:45 am]

BILLING CODE 6560-50-P